DEPARTMENT OF DEFENSE

Office of the Secretary

[Docket ID: DoD-2014-OS-0135]

Submission for OMB Review; Comment Request

ACTION: Notice.

SUMMARY: The Department of Defense has submitted to OMB for clearance, the following proposal for collection of information under the provisions of the Paperwork Reduction Act.

DATES: Consideration will be given to all comments received by March 23, 2015.

FOR FURTHER INFORMATION CONTACT: Fred Licari, 571-372-0493.

SUPPLEMENTARY INFORMATION:

Title, Associated Form and Omb Number: 2015 Survey of Registered Voters Living Overseas; OMB Control Number 0704-TBD.

Type of Request: New

Number of Respondents: 18,000

Responses per Respondent: 1

Annual Responses: 18,000

Average Burden per Response: 10 minutes

Annual Burden Hours: 3,000

Needs and Uses: The Uniformed and Overseas Citizens Absentee Voting Act (UOCAVA) requires the States to allow Uniformed Services personnel, their family members, and overseas citizens to use absentee registration procedures and to vote by absentee ballot in general, special, primary, and runoff elections for Federal offices. The Act covers members of the Uniformed Services and the merchant marine to include the commissioned corps of the National Oceanic and Atmospheric Administration and Public Health Service and their eligible dependents, Federal civilian employees overseas, and overseas U.S. citizens not affiliated with the Federal Government. Subsequent to each Presidential election year, FVAP must report voter registration and participation rates for uniformed service voters and overseas citizens to Congress; while FVAP collects data for this report through regular surveys of uniformed service voters and other relevant UOCAVA populations, it does not currently collect data from non-military, non-government overseas civilians. The 2015 Survey of Registered Voters Living Overseas research project will serve as a pilot, examining the feasibility of collecting data from this population by surveying a sample of registered voters living overseas during the 2014 election. Collecting information from this population will also support FVAP in its purpose of ensuring that Service members, their eligible family members and overseas citizens are aware of their right to vote and have the tools and resources to successfully do so from anywhere in the world. In addition to determining the feasibility of conducting a survey of overseas civilians, the information collected will be used for overall program evaluation, management and improvement, and to compile the congressionally-mandated report to the President and Congress.

Affected Public: Individuals or households.

Frequency: On occasion.

Respondent's Obligation: Voluntary.

Omb Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: February 12, 2015.
Aaron Siegel,
Alternate OSD Federal Register Liaison Officer, Department of Defense.

[FR Doc. 2015-03348 Filed 2-18-15; 8:45 am]

BILLING CODE 5001-06-P